DEPARTMENT OF COMMERCE

National Oceanic and Atmospheric Administration

50 CFR Part 679

[Docket No. 161020985-7181-02]

RIN 0648-XF702

Fisheries of the Exclusive Economic Zone Off Alaska; Several Groundfish Species in the Bering Sea and Aleutian Islands Management Area

AGENCY: National Marine Fisheries Service (NMFS), National Oceanic and Atmospheric Administration (NOAA), Commerce.

ACTION: Temporary rule; apportionment of reserves; request for comments.

SUMMARY: NMFS apportions amounts of the non-specified reserve to the initial total allowable catch (ITAC) of Aleutian Islands (AI) Greenland turbot, AI “other rockfish,” Bering Sea (BS) sablefish, Bering Sea and Aleutian Islands (BSAI) Alaska plaice, BSAI northern rockfish, BSAI “other flatfish,” BSAI shortraker rockfish, BSAI sculpin, BSAI skates, and Central and Western Aleutian Islands (CAI/WAI) blackspotted/rougheye rockfish in the BSAI management area. This action is necessary to allow the fisheries to continue operating. It is intended to promote the goals and objectives of the fishery management plan for the BSAI management area.

DATES: Effective November 24, 2017, through 2400 hrs, Alaska local time, December 31, 2017. Comments must be received at the following address no later than 4:30 p.m., Alaska local time, December 11, 2017.

ADDRESSES: Submit your comments, identified by NOAA-NMFS-2016-0140, by either of the following methods:

• Electronic Submission: Submit all electronic public comments via the Federal e-Rulemaking Portal. Go to http://www.regulations.gov/docket?D=NOAA-NMFS-2016-0140, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: NMFS may not consider comments if they are sent by any other method, to any other address or individual, or received after the comment period ends. All comments received are a part of the public record and NMFS will post the comments for public viewing on www.regulations.gov without change. All personal identifying information (e.g., name, address, etc.), confidential business information, or otherwise sensitive information submitted voluntarily by the sender is publicly accessible. NMFS will accept anonymous comments (enter “N/A” in the required fields if you wish to remain anonymous).

FOR FURTHER INFORMATION CONTACT: Steve Whitney, 907-586-7228.

SUPPLEMENTARY INFORMATION: NMFS manages the groundfish fishery in the (BSAI) exclusive economic zone according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2017 ITAC of AI Greenland turbot was established as 106 metric tons (mt), the 2017 ITAC of AI “other rockfish” was established at 550 mt, the 2017 ITAC of BS sablefish was established as 1,051 mt, the 2017 ITAC of BSAI Alaska plaice was established as 11,050 mt, the 2017 ITAC of BSAI northern rockfish was established as 4,250 mt, the 2017 ITAC of BSAI “other flatfish” was established as 2,125 mt, the 2017 TAC of BSAI shortraker rockfish was established as 125 mt, the 2017 ITAC of BSAI sculpins was established as 3,825 mt, the 2017 ITAC of BSAI skates was established as 22,100 mt, and the 2017 TAC of CAI/WAI blackspotted/rougheye rockfish was established as 125 mt by the final 2017 and 2018 harvest specifications for groundfish of the BSAI (82 FR 11826, February 27, 2017). In accordance with § 679.20(a)(3) the Regional Administrator, Alaska Region, NMFS, has reviewed the most current available data and finds that the ITACs for AI Greenland turbot, AI “other rockfish,” BS sablefish, BSAI Alaska plaice, BSAI northern rockfish, BSAI “other flatfish,” BSAI shortraker rockfish, BSAI sculpin, BSAI skates, and CAI/WAI blackspotted/rougheye rockfish need to be supplemented from the non-specified reserve to promote efficiency in the utilization of fishery resources in the BSAI and allow fishing operations to continue.

Therefore, in accordance with § 679.20(b)(3), NMFS apportions from the non-specified reserve of groundfish 19 mt to AI Greenland turbot, 21 mt to AI “other rockfish,” 48 mt to BS sablefish, 5,500 mt to BSAI Alaska plaice ITAC, 475 mt to BSAI northern rockfish ITAC, 2,050 mt to BSAI “other flatfish” ITAC, 30 mt to BSAI shortraker rockfish ITAC, 1,500 mt to BSAI sculpin ITAC, 1,487 mt to BSAI skates ITAC, and 10 mt to the CAI/WAI blackspotted/rougheye rockfish TAC in the BSAI management area. These apportionments are consistent with § 679.20(b)(1)(i) and do not result in overfishing of any target species because the revised ITACs and total allowable catch (TAC) are equal to or less than the specifications of the acceptable biological catch in the final 2017 and 2018 harvest specifications for groundfish in the BSAI (82 FR 11826, February 27, 2017).

The harvest specification for the 2017 ITACs and TACs included in the harvest specifications for groundfish in the BSAI are revised as follows: 125 mt for AI Greenland turbot, 571 mt for AI “other rockfish,” 16,550 mt for Alaska plaice, 4,175 mt for “other flatfish”, 155 mt for BSAI shortraker rockfish, 5,325 mt for BSAI sculpins, and 135 mt for CAI/WAI blackspotted/rougheye rockfish. The harvest specification for the 2017 ITAC included in the harvest specifications for groundfish in the BSAI is revised as follows: 1,099 mt for BS sablefish, 4,725 mt for BSAI northern rockfish, and 23,587 mt for BSAI skates.

Classification

This action responds to the best available information recently obtained from the fishery. The Assistant Administrator for Fisheries, NOAA, (AA) finds good cause to waive the requirement to provide prior notice and opportunity for public comment pursuant to the authority set forth at 5 U.S.C. 553(b)(B) and § 679.20(b)(3)(iii)(A) as such a requirement is impracticable and contrary to the public interest. This requirement is impracticable and contrary to the public interest as it would prevent NMFS from responding to the most recent fisheries data in a timely fashion and would delay the apportionment of the non-specified reserves of groundfish to the AI Greenland turbot, AI “other rockfish,” BS sablefish, BSAI Alaska plaice, BSAI northern rockfish, BSAI “other flatfish,” BSAI shortraker rockfish, BSAI sculpin, BSAI skates, and CAI/WAI blackspotted/rougheye rockfish in the BSAI. Immediate notification is necessary to allow for the orderly conduct and efficient operation of this fishery, to allow the industry to plan for the fishing season, and to avoid potential disruption to the fishing fleet and processors. NMFS was unable to publish a notice providing time for public comment because the most recent, relevant data only became available as of November 21, 2017.

The AA also finds good cause to waive the 30-day delay in the effective date of this action under 5 U.S.C. 553(d)(3). This finding is based upon the reasons provided above for waiver of prior notice and opportunity for public comment.

Under § 679.20(b)(3)(iii), interested persons are invited to submit written comments on this action (see ADDRESSES) until December 11, 2017.

This action is required by § 679.20 and is exempt from review under Executive Order 12866.

Authority: 16 U.S.C. 1801, et seq.

Dated: November 24, 2017.
Alan D. Risenhoover,
Director, Office of Sustainable Fisheries, National Marine Fisheries Service.

[FR Doc. 2017-25759 Filed 11-24-17; 4:15 pm]

BILLING CODE 3510-22-P